DEPARTMENT OF THE INTERIOR

Bureau of Land Management

[LLAK920000-L14100000-BJ0000]

Notice of Filing of Plats of Survey, Alaska

AGENCY: Bureau of Land Management, Interior.

ACTION: Notice.

SUMMARY: Notice of Filing of Plats of Survey, Alaska.

DATES: The Alaska State Office, Bureau of Land Management, Anchorage, Alaska, must receive comments on or before August 2, 2010.

ADDRESS: Bureau of Land Management, Alaska State Office; 222 W. 7th Ave., Stop 13; Anchorage, AK 99513-7599.

FOR FURTHER INFORMATION CONTACT: Stephen B. Hamrick, 907-271-5481, fax 907-271-4549, e-mail shamrick@blm.gov.

SUPPLEMENTARY INFORMATION: This survey of an Indian Allotment held in trust status and located on the left bank of the Kenai River near Soldotna, Alaska, was executed at the request of the Bureau of Indian Affairs, Alaska Region. The legal description of this trust allotment is:

Lot 4, Section 35, Township 5 North, Range 10 West, Seward Meridian, Alaska.

Copies of the survey plat and field notes are available to the public at the BLM Alaska Public Information Center and you can obtain copies from this office for a minimum recovery fee.

The plat will not be officially filed until the day after BLM has accepted or dismissed all protests and they have become final, including decisions on appeals.

Authority: 43 U.S.C. 3; 53.

Dated: June 24, 2010.
Stephen B. Hamrick,
Chief Cadastral Surveyor.

[FR Doc. 2010-16220 Filed 7-1-10; 8:45 am]

BILLING CODE 4310-JA-P